SECURITIES AND EXCHANGE COMMISSION

[File No. 500-1]

First Power & Light, Inc.,: n/k/a Volt Solar Systems, Inc; Order of Suspension of Trading

May 22, 2014.

It appears to the Securities and Exchange Commission that there is a lack of current and accurate information concerning the securities of First Power & Light, Inc. n/k/a Volt Solar Systems, Inc. (“VOLT”) because of questions concerning the adequacy and accuracy of publicly available information about VOLT, including, among other things, its corporate transactions, the control of the company, and trading in its securities.

The Commission is of the opinion that the public interest and the protection of investors require a suspension of trading in the securities of the above-listed company.

Therefore, it is ordered, pursuant to Section 12(k) of the Securities Exchange Act of 1934, that trading in the securities of the above-listed company is suspended for the period from 9:30 a.m. E.D.T. on May 22, 2014, through 11:59 p.m. E.D.T. on June 5, 2014.

By the Commission.
Jill M. Peterson,
Assistant Secretary.

[FR Doc. 2014-12247 Filed 5-22-14; 11:15 am]

BILLING CODE 8011-01-P